DEPARTMENT OF TRANSPORTATION

Federal Aviation Administration

14 CFR Part 71

[Docket No. FAA-2010-1328; Airspace Docket No. 10-AEA-26]

Amendment of Class D and E Airspace; Baltimore, MD

AGENCY: Federal Aviation Administration (FAA), DOT.

ACTION: Final rule, correction.

SUMMARY: This action corrects the geographic coordinates in the airspace description of a final rule published in the Federal Register of November 28, 2011, amending controlled airspace at Martin State Airport, Baltimore, MD.

DATES: Effective date: 0901 UTC. February 9, 2012. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On November 28, 2011, the FAA published a final rule in the Federal Register amending Class D and E airspace at Martin State Airport, Baltimore, MD, and adjusting the geographic coordinates for the airport (76 FR 72837). This action further corrects the geographic coordinates to be in concert with the FAAs aeronautical database.

The Class D and E airspace designations are published in Paragraphs 5000, 6002 and 6004 of FAA order 7400.9V, dated August 9, 2011, and effective September 15, 2011, which is incorporated by reference in 14 CFR 71.1. The Class E airspace designations listed in this document will be published subsequently in the Order.

Correction to Final Rule

Accordingly, pursuant to the authority delegated to me, the geographic coordinates listed in the airspace designation for the Class D and Class E airspace areas at Martin State Airport, Baltimore, MD, as published in the Federal Register of November 28, 2011, 76 FR 72837, FR Doc. 2011-30489, are corrected as follows:

AEA MD D Baltimore, Martin State Airport, MD [Corrected]

Martin State Airport, Baltimore, MD

On page 72837, column 3, line 53, remove (Lat. 39°19′54″ N., long. 76°24′83″ W.) and insert (Lat. 39°19′32″ N., long. 76°24′50″ W.)

AEA MD E2 Baltimore, Martin State Airport, MD [Corrected]

Martin State Airport, MD

On page 72838, column 1, line 14, remove (Lat. 39°19′54″ N., long. 76°24′83″ W.) and insert (Lat. 39°19′32″ N., long. 76°24′50″ W.)

AEA MD E4 Baltimore, Martin State Airport, MD [Corrected]

Martin State Airport, MD

On page 72838, column 1, line 38, remove (Lat. 39°19′54″ N., long. 76°24′83″ W.) and insert (Lat. 39°19′32″ N., long. 76°24′50″ W.)

Issued in College Park, Georgia, on December 13, 2011.
Michael Vermuth,
Acting Manager, Operations Support Group, Eastern Service Center, Air Traffic Organization.

[FR Doc. 2011-32847 Filed 12-22-11; 8:45 am]

BILLING CODE 4910-13-P